DEPARTMENT OF THE TREASURY

Submission for OMB Review; Comment Request

December 22, 2010.

The Department of the Treasury will submit the following public information collection requirements to OMB for review and clearance under the Paperwork Reduction Act of 1995, Public Law 104-13 on or after the date of publication of this notice. A copy of the submissions may be obtained by contacting the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before January 28, 2011 to be assured of consideration.

Domestic Finance/Terrorism Risk Insurance Program (TRIP)

OMB Number: 1505-0200.

Type of Review: Extension without change of a currently approved collection.

Title: Terrorism Risk Insurance Program Loss Reporting.

Form: TRIP 01, TRIP 02B, TRIP 02C, TRIP 02A, TRIP 02.

Abstract: Information collection made necessary by the Terrorism Risk Insurance Act of 2002, as amended by the Terrorism Risk Insurance Extension Act of 2005, the Terrorism Risk Insurance Program Reauthorization Act of 2007, and by Treasury implementing regulations to pay Federal share to commercial property and casualty insurers for terrorism losses.

Respondents: Businesses or other for-profits; Individuals or Households.

Estimated Total Reporting Burden: 4,200 hours.

TRIP Clearance Officer: Sara Clary, TRIP, 1425 New York Ave., NW., Room 2101, Washington, DC 20220; (202) 622-7814.

OMB Reviewer: Shagufta Ahmed, Office of Management and Budget, New Executive Office Building, Room 10235, Washington, DC 20503; (202) 395-7873.

Celina Elphage,
Treasury PRA Clearance Officer.

[FR Doc. 2010-32860 Filed 12-28-10; 8:45 am]

BILLING CODE 4810-25-P